DEPARTMENT OF JUSTICE

Antitrust Division

Notice Pursuant to the National Cooperative Research and Production Act of 1993—Inter Company Collaboration for AIDS Drug Development

Notice is hereby given that, on May 26, 2000, pursuant to section 6(a) of the National Cooperative Research and Production Act of 1993, 15 U.S.C. 4301 et seq. (“the Act”), the Inter Company Collaboration for AIDS Drug Development (the “Collaboration”) filed written notifications simultaneously with the Attorney General and the Federal Trade Commission disclosing changes in its membership status. The notifications were filed for the purpose of extending the Act's provisions limiting the recovery of antitrust plaintiffs to actual damages under specified circumstances. Specifically, Collaboration member Ajinomoto Co., Inc. of Tokyo, Japan has withdrawn from the Collaboration. Although no other changes have been made in the membership of the Collaboration, Pharmacia & Upjohn Inc., of Peapack, New Jersey, the parent company of Collaboration member Pharmacia & Upjohn Company of Kalamazoo, MI, merged with a wholly owned subsidiary of Monsanto Company of St. Louis, MO, and Monsanto Company changed its name to Pharmacia Corporation. After these actions, Pharmacia & Upjohn Inc. remains the parent of Pharmacia & Upjohn Company and is now a wholly owned subsidiary of Pharmacia Corporation of Peapack, NJ.

Membership in the Collaboration remains open, and the Collaboration intends to file additional written notification disclosing all changes in membership.

On May 27, 1993, the Collaboration filed its original notification pursuant to section 6(a) of the Act. The Department of Justice published a notice in the Federal Register pursuant to section 6(b) of the Act on July 6, 1993 (58 FR 36223).

The last notification was filed with the Department on October 25, 1999. A notice was published in the Federal Register pursuant to section 6(b) of the Act on April 28, 2000 (65 FR 24983).

Constance K. Robinson,
Director of Operations, Antitrust Division.

[FR Doc. 00-23418 Filed 9-12-00; 8:45 am]

BILLING CODE 4410-11-M